Presidential Determination No. 2005-40 of September 28, 2005

Transfers of Defense Articles or Services and Brokering

Activities for Libya Relating to Disposition of Libyan-owned C-130H Aircraft

Memorandum for the Secretary of State

Pursuant to the authority vested in me by the Constitution and laws of the United States, including sections 40(g) and 40A of the Arms Export Control Act (AECA), I hereby:

•

determine that the transaction, encompassing sales or licensing for export of defense articles or defense services and brokering activities necessary to assist in the disposition, including any required refurbishment, of Libyan-owned C-130H aircraft, is essential to the national security interests of the United States and important to the national interests of the United States;

•

waive the prohibitions in sections 40 and 40A of the AECA related to such transaction; and

•

assign to you the functions under AECA section 40(g)(2) to consult with and submit reports to the Congress for proposed specific exports or transfers, 15 days prior to permitting them to proceed, that are necessary for and within the scope of this waiver determination and the transaction referred to herein.

You are authorized and directed to report this certification to the Congress and to arrange for its publication in the Federal Register.

B

THE WHITE HOUSE,

Washington, September 28, 2005.

[FR Doc. 05-20855

Filed 10-14-05; 8:45 am]

Billing code 4710-10-P